DEPARTMENT OF TRANSPORTATION

Federal Aviation Administration

14 CFR Part 39

[Docket No. 2001-NM-340-AD]

RIN 2120-AA64

Airworthiness Directives; Airbus Model A330 and A340 Series Airplanes

AGENCY: Federal Aviation Administration, DOT.

ACTION: Notice of proposed rulemaking (NPRM).

SUMMARY: This document proposes the supersedure of an existing airworthiness directive (AD), applicable to certain Airbus Model A330 and A340 series airplanes, that currently requires a one-time inspection of the rail release pins and parachute pins of the escape slide/raft pack assembly for correct installation, and corrective actions, if necessary. This action would add a requirement to modify the escape slides/slide rafts on the passenger, crew, and emergency exit doors. The actions specified by the proposed AD are intended to prevent improper deployment of the escape slide/raft and blockage of the door in the event of an emergency evacuation. This action is intended to address the identified unsafe condition.

DATES: Comments must be received by October 15, 2002.

ADDRESSES: Submit comments in triplicate to the Federal Aviation Administration (FAA), Transport Airplane Directorate, ANM-114, Attention: Rules Docket No. 2001-NM-340-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-340-AD” in the subject line and need not be submitted in triplicate. Comments sent via the Internet as attached electronic files must be formatted in Microsoft Word 97 for Windows or ASCII text.

The service information referenced in the proposed rule may be obtained from Airbus Industrie, Customer Services Directorate, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-340-AD.” The postcard will be date stamped and returned to the commenter.

Availability of NPRMs

Any person may obtain a copy of this NPRM by submitting a request to the FAA, Transport Airplane Directorate, ANM-114, Attention: Rules Docket No. 2001-NM-340-AD, 1601 Lind Avenue, SW., Renton, Washington 98055-4056.

Discussion

On October 14, 1999, the FAA issued AD 99-22-07, amendment 39-11385 (64 FR 56963, October 22, 1999), applicable to certain Airbus Model A330 and A340 series airplanes, to require a one-time inspection of the rail release pins and parachute pins of the escape slide/raft pack assembly for correct installation, and corrective actions, if necessary. That action was prompted by reports of the escape slide/raft failing to deploy and blocking the passenger and crew doors due to incorrect installation of the rail release pins of the escape slide/raft pack assembly or because the parachute pin of the escape slide/raft assembly had been pulled out before the door was open. The requirements of that AD are intended to prevent the escape slide/raft from deploying improperly and blocking the doors in the event of an emergency evacuation.

Actions Since Issuance of Previous Rule

Since the issuance of that AD, the FAA has been advised by the Direction Générale de l'Aviation Civile (DGAC), which is the airworthiness authority for France, of reports from the manufacturer and operators of Model A330 and A340 series airplanes indicating that the rail release pins for the emergency evacuation slides were incorrectly installed. If an incorrectly installed rail release pin were to rotate from its correct orientation, the pin could lock in the release rail and prevent the door from opening.

The FAA has been advised that the release pin/rail retention mechanism has been redesigned to improve the alignment of the rail release pin and reduce the possibility of blockage of the door or unwanted rotation of the rail release pin even if the pin is not completely installed in the rail. The rail bushing has been redesigned to allow the rail release pin to be extracted from the rail when the door is being opened. The rail adapter has been redesigned to prevent its jamming inside the rail slot when the door is being opened.

Explanation of Relevant Service Information

Airbus has issued Service Bulletins A330-25-3126 (for Model A330 series airplanes) and A340-25-4152 (for Model A340 series airplanes), both dated August 7, 2001, which reflect the new designs discussed above. The service bulletins describe procedures for modifying the escape slides/slide rafts on the passenger/crew doors and the emergency exit doors. The modification involves replacing—with new or modified parts—the alignment bushing in the release rails, the existing rail release pin lanyards from the girt or girt attachment, and the existing rail adapters from the packboard. Accomplishment of the actions specified in the service bulletins is intended to adequately address the identified unsafe condition. The DGAC classified these service bulletins as mandatory and issued French airworthiness directives 2001-465(B) R1 and 2001-464(B) R1, both dated October 17, 2001, to ensure the continued airworthiness of these airplanes in France.

The Airbus service bulletins refer to Goodrich Service Bulletin 25-306, dated July 30, 2001, as an additional source of service information for the modification.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 99-22-07 to continue to require a one-time inspection of the rail release pins and parachute pins of the escape slide/raft pack assembly for correct installation, and corrective actions, if necessary. The proposed AD would also require modification of the escape slides/slide rafts on the passenger, crew, and emergency exit doors. The actions would be required to be accomplished in accordance with the applicable service bulletin described previously.

Explanation of Increased Number of U.S.-Registered Airplanes

At the time AD 99-22-07 was issued, there were no Model A330 or A340 series airplanes registered in the United States. Nine Model A330 series airplanes have since been imported into the United States, and would be affected by this proposed AD.

Explanation of Change to Inspection Definition

The FAA has clarified the inspection requirement contained in AD 99-22-07. Whereas that AD requires a detailed visual inspection, this proposed AD specifies a detailed inspection and provides a note that defines that inspection.

Explanation of Change to Applicability of Existing AD

The applicability of this proposed AD has been revised to correspond to that of French airworthiness directives 2001-465(B) R1 and 2001-464(B) R1, which consider airplanes manufactured since AD 99-22-07 was issued and those that received the subject modification in production.

Cost Impact

There are approximately nine airplanes of U.S. registry that would be affected by this proposed AD.

The inspection currently required by AD 99-22-07 takes approximately 7 work hours per airplane to accomplish, at an average labor rate of $60 per work hour. Based on these figures, the cost impact of the currently required actions on U.S. operators is estimated to be $3,780, or $420 per airplane.

The modification proposed in this AD action would take approximately 11 work hours per airplane to accomplish, at an average labor rate of $60 per work hour. Required parts would cost approximately $3,136 per airplane. Based on these figures, the cost impact of the proposed requirements of this AD on U.S. operators is estimated to be $34,164, or $3,796 per airplane.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11385 (64 FR 56963, October 22, 1999), and by adding a new airworthiness directive (AD), to read as follows:

Airbus: Docket 2001-NM-340-AD. Supersedes AD 99-22-07, Amendment 39-11385.

Applicability: Model A330 and A340 series airplanes, certificated in any category; excluding those modified in production by Airbus Modification 48840, 48841, 48842, or 48843.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent improper deployment of the escape slide/raft and blockage of the door in the event of an emergency evacuation, accomplish the following:

Restatement of Requirements of AD 99-22-07

Inspection

(a) Within 2,000 flight hours or 6 months after November 26, 1999 (the effective date of AD 99-22-07, amendment 39-11385), whichever occurs later, except as provided by paragraph (b) of this AD: Perform a one-time detailed inspection of the rail release pins and parachute pins of the escape slide/raft pack assembly installed on all passenger/crew doors (type A) and emergency exit doors (type A or type 1) for correct installation, in accordance with Airbus Industrie Service Bulletin A330-25-3086 (for Model A330 series airplanes) or A340-25-4115 (for Model A340 series airplanes), both Revision 01, both dated June 11, 1999.

(1) During the inspection performed in accordance with paragraph (a) of this AD, if a rail release pin of the escape slide/raft pack assembly is found to be missing or incorrectly installed: Prior to further flight, re-install the rail release pin into the release rail, or, if re-installation is not possible, remove the discrepant escape slide/raft pack assembly and replace with a new pack assembly of the same part number; in accordance with the applicable service bulletin.

(2) During the inspection performed in accordance with paragraph (a) of this AD, if a parachute pin of the escape slide/raft pack assembly is found to be missing or incorrectly installed: Prior to further flight, remove the discrepant escape slide/raft pack assembly and replace with a new pack assembly of the same part number; in accordance with the applicable service bulletin.

New Requirements of This AD

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Modification

(b) Within 36 months after the effective date of this AD: Modify the escape slides/slide rafts on the passenger, crew, and emergency exit doors. The modification includes replacing—with new or modified parts—the alignment bushing in the release rails, the existing rail release pin lanyards from the girt or girt attachment, and the rail adapters from the packboard. Do the modification in accordance with Airbus Service Bulletin A330-25-3126 (for Model A330 series airplanes) or A340-25-4152 (for Model A340 series airplanes), both dated August 7, 2001. If the modification is done within the compliance time for the inspection specified in paragraph (a) of this AD, the inspection is not required.

Note 3: Airbus Service Bulletins A330-25-3126 and A340-25-4152 refer to Goodrich Service Bulletin 25-306, dated July 30, 2001, as an additional source of service information for the modification.

Alternative Methods of Compliance

(c) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 5: The subject of this AD is addressed in French airworthiness directives 2001-465(B) R1 and 2001-464(B) R1, both dated October 17, 2001.

Issued in Renton, Washington, on September 5, 2002.
Ali Bahrami,
Acting Manager, Transport Airplane Directorate, Aircraft Certification Service.

[FR Doc. 02-23292 Filed 9-12-02; 8:45 am]

BILLING CODE 4910-13-P